DEPARTMENT OF DEFENSE

Defense Acquisition Regulations System

Early Engagement Opportunity: Implementation of Executive Order on Ensuring Adequate COVID Safety Protocols for Federal Contractors

AGENCY: Defense Acquisition Regulations System, Department of Defense (DoD).

ACTION: Notice.

SUMMARY: DoD announces an early engagement opportunity to support DoD implementation planning for an Executive Order titled “Ensuring Adequate COVID Safety Protocols for Federal Contractors.”

DATES: Early inputs should be submitted in writing via the Defense Acquisition Regulations System (DARS) website shown in the ADDRESSES section. Comments can be received up to 30 days after the date of this notice, but comments will be most useful if received by DoD within 7 days after the date of this notice. The website will be updated when early inputs will no longer be accepted.

ADDRESSES: Submit early inputs via the DARS website at https://www.acq.osd.mil/dpap/dars/early_engagement.html or via email to osd.dfars@mail.mil and reference “Early Engagement Opportunity: E.O. 14042” in the subject line.

FOR FURTHER INFORMATION CONTACT: Ms. Carrie Moore, 571-372-6093.

SUPPLEMENTARY INFORMATION: DoD is providing an opportunity for the public to provide early inputs on the Department's implementation of Executive Order (E.O.) 14042, Ensuring Adequate COVID Safety Protocols for Federal Contractors. The public is invited to submit early inputs on E.O. 14042 via the DARS website at https://www.acq.osd.mil/dpap/dars/early_engagement.html. Comments can be received up to 30 days after the date of this notice, but comments will be most useful if received by DoD within 7 days after the date of this notice. The website will be updated when early inputs will no longer be accepted. Please note, this venture does not replace or circumvent the rulemaking process.

Jennifer D. Johnson,
Editor/Publisher, Defense Acquisition Regulations System.

[FR Doc. 2021-20189 Filed 9-16-21; 8:45 am]

BILLING CODE 5001-06-P